FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transactions Granted Early Terminations, 04/03/2001-04/13/2001
Transaction no. | Acquiring | Acquired | Entities
Transactions Granted Early Termination—04/03/2001
20011472 | LG Electronics Inc. | Joint Venture Corporation | Joint Venture Corporation.
20011473 | Koninklijke Philips Electronics N.V | Joint Venture Corporation | Joint Venture Corporation.
20011599 | United Parcel Service, Inc | U.S. Office Products Company | Mail Boxes Etc.
20011625 | Verizon Communications Inc | Bravo Cellular Holding, L.L.C | Bravo Cellular Holding, L.L.C.
Transactions Granted Early Termination—04/05/2001
20011502 | Rogers Corporation | James Russell | Tonoga Limited.
20011586 | Flextronics International Ltd | Telefonaktiebolaget LM Ericsson | Ericsson Inc.
Transactions Granted Early Termination—04/06/2001
20011640 | MDU Resources Group, Inc | Bauerly Brothers, Inc | Bauerly Brothers, Inc.
20011645 | Dimension Data Holdings plc | Premier Systems Integrators, LLC | Premier Systems Integrators, LLC.
20011654 | Reebok International, Ltd | National Football League Properties, Inc | National Football League Properties, Inc.
20011655 | ChoicePoint Inc | James N. Alvarez | Direct Mail Credit Data Trust.
|  |  | Marketing Information and Technology Trust.
20011656 | Palm, Inc | Extended Systems Incorporated | Extended Systems Incorporated.
20011657 | Steven M. Scott, M.D | Health Net, Inc | Foundation Health, A Florida Health Plan, Inc.
20011668 | Three Cities Fund III, L.P | Einstein/Noah Bagel Corp | Einstein/Noah Bagel Corp.
Transactions Granted Early Termination—04/09/2001
20010430 | AT&T Corp | Michael Malone | AEI Music Network Inc.
20010431 | Michael Malone | AT&T Corp | Newco.
Transactions Granted Early Termination—04/10/2001
20011624 | Satish K. Sanan | CGI Group Inc | CGI Group Inc.
20011633 | Frontenac VIII Limited Partnership | John Jack McEntee | Nth Degree Inc.
20011642 | TransCanada Pipelines Limited | International Paper Company | Curtis/Palmer Hydrolectric Company, L.P.
20011676 | WD-40 Company, a Delaware Corporation | HPD Holdings Corp | HPD Holdings Corp.
20011685 | divine, inc | marchFirst, Inc | marchFirst, Inc.
Transactions Granted Early Termination—04/11/2001
20011670 | Commonwealth Credit Union | State Capitol Credit Union | State Capitol Credit Union.
20011683 | Intel Corporation | LightLogic, Inc | LightLogic, Inc.
Transactions Granted Early Termination—04/13/2001
20011124 | Phillips Petroleum Company | The Coastal Corporation | Coastal Mart of Oklahoma, Inc.
|  |  | Coastal Mart, Inc.
|  |  | Coastal Refining & Market, Inc.
20011630 | General Electric Company | Dover Corporation | A-C Canada Corporation, A-C Compressor UK Limited.
|  |  | Commec, Inc., Millwrights Incorporated.
|  |  | Delaware Capital Formation, Inc.
|  |  | Preco Turbine & Compressor Services, Inc.
20011666 | Community Foundation, Inc | Ancilla Systems Incorporated | St. Catherine Hospital, Inc., St. Mary Medical Center, Inc.
20011669 | AT&T Corp | NorthPoint Communications Group, Inc | NorthPoint Communications Group, Inc
20011671 | Amerada Hess Corporation | Gibbs Oil Company Limited Partnership | Gibbs Oil Company Limited Partnership
20011677 | Myriad Genetics, Inc | Myriad Proteomics, Inc | Myriad Proteomics, Inc.
20011678 | ITC Holding Company, Inc | ITC‸DeltaCom, Inc | ITC‸DeltaCom, Inc.
20011684 | The Cirrus Trust | Gencor Industries, Inc | Consolidated Process Machinery, Inc.
20011686 | SAP Aktiengesellschaft Systeme, Anwendungen Produkte in der | Stichting Administratiekantoor Vanenburg Capitol Management | Top Tier Software, Inc.
20011688 | DLJ Merchant Banking Partners III, L.P | PMD Group Holdings, Inc | PMD Group Holdings, Inc.
20011689 | Deutsche Lufthansa AG | Gerald Schwartz | Onex Food Services, Inc.
20011691 | Goodman Distributing Company | Goodman Manufacturing Company, L.P | Goodman Manufacturing Company, L.P.
20011699 | UbiquiTel Inc | VIA Wireless, LLC | VIA Wireless, LLC.
20011717 | General Electric Company | Franchise Finance Corporation of America | Franchise Finance Corporation of America.

FOR FURTHER INFORMATION CONTACT: Sandra M. Peay or Parcellena P. Fielding, Contact Representatives, Federal Trade Commission, Premerger Notification Office, Bureau of Competition, Room 303, Washington, D.C. 20580, (202) 326-3100.

By direction of the Commission.
Donald S. Clark,
Secretary.

[FR Doc. 01-11590 Filed 5-8-01; 8:45 am]

BILLING CODE 6750-01-M